DEPARTMENT OF DEFENSE

Office of the Secretary

Meeting of the DoD Healthcare Quality Initiatives Review Panel

AGENCY: Department of Defense.

ACTION: Notice of meeting.

SUMMARY: This notice sets forth the ongoing schedule and for the next two meetings of the DoD Healthcare Quality Initiatives Review Panel. Meetings will be open to the public. Notice of these meetings are required under the Federal Advisory Committee (FAC) Act (Pub. L. 92-463).

DATES: March 23, 2000; April 27, 2000.

ADDRESSES: Sheraton Crystal City, 1800 Jefferson Davis Hwy, Arlington, VA 22202.

PROPOSED SCHEDULE AND AGENDA: Agenda will be posted on the homepage located @ www.hqirp.org. The DoD Healthcare Quality Initiatives Review Panel (HQIRP) will meet in open session from approximately 8:30 am to 5:30 pm. There will be 20 minutes provided for Public Commentary beginning at approximately 4:30 pm. Public seating for this meeting is limited and is available on a first-come, first-served basis.

FOR FURTHER INFORMATION: Please contact Gia Edmonds at (703) 933-8325.

Dated: March 9, 2000.
L.M. Bynum,
Alternate OSD Federal Register Liaison Officer, Department of Defense.

[FR Doc. 00-6291 Filed 3-14-00; 8:45 am]

BILLING CODE 5000-10-M